DEPARTMENT OF COMMERCE

International Trade Administration

(A-475-818)

Certain Pasta from Italy: Notice of Extension of Final Results of Antidumping Duty Changed Circumstances Review

AGENCY: Import Administration, International Trade Administration, Department of Commerce.

EFFECTIVE DATE: October 10, 2008.

FOR FURTHER INFORMATION CONTACT: Eric B. Greynolds, AD/CVD Operations, Office 3, Import Administration, International Trade Administration, U.S. Department of Commerce, Room 4014, 14th Street and Constitution Ave., NW, Washington, DC 20230, telephone: (202) 482-6071.

SUPPLEMENTARY INFORMATION:

Background

On November 19, 2007, the Department of Commerce (the Department) published its notice of initiation of antidumping duty (AD) changed circumstances review (CCR). See Certain Pasta from Italy: Notice of Initiation of Antidumping Duty Changed Circumstances Review, 72 FR 65010 (November 19, 2007). On February 22, 2008, the Department published its notice of preliminary results of AD CCR and intent to reinstate the AD order. See Certain Pasta from Italy: Notice of Preliminary Results of Antidumping Duty Changed Circumstances Review and Intent to Reinstate the Antidumping Duty Order, 73 FR 9769 (February 22, 2008). On August 12, 2008, the Department extended the due date of the final results of the AD CCR until October 6, 2008. See Certain Pasta from Italy: Notice of Extension of Final Results of Antidumping Duty Changed Circumstances Review, 73 FR 46871 (August 12, 2008). On September 17, 2008, Pasta Lensi S.r.L. (Lensi) and the American Italian Pasta Company (AIPC) requested to meet with officials from the Department regarding the AD CCR. That meeting is currently scheduled for October 8, 2008, after the current due date of the final results. On September 29, 2008, the Department placed on the record of the AD CCR press releases from the United States Attorney for the Western District of Missouri and the Securities and Exchange Administration (SEC) regarding the AIPC. See the Memorandum to the File from Eric B. Greynolds, Program Manager, “Press Release from Office of the United States Attorney for the Western District of Missouri and the Securities and Exchange Commission Regarding the American Italian Pasta Company” (September 29, 2008), a public document on file in the Central Records Unit (CRU), room 1117 of the main Department building.

Extension of Time Limit for Final Results

Under 19 CFR 351.216(e), the Department will issue the final results of a CCR within 270 days after the date on which the Department initiates the changed circumstances review. Currently, the final results of the AD CCR, which cover Lensi, a producer/exporter of pasta from Italy, and AIPC, Lensi's corporate parent and importer of subject merchandise produced by Lensi, are due by October 6, 2008. As explained above, the Department has placed certain information regarding Lensi on the record of the AD CCR. In addition, Lensi and AIPC have requested to meet with officials from the Department regarding the AD CCR. See Memorandum to the File from Eric B. Greynolds, Program Manager, “Request by Pasta Lensi S.r.L. for Meeting with Assistant Secretary” (September 30, 2008), a public document on file in the CRU. In order to provide interested parties an opportunity to comment on the new information placed on the record by the Department, to consider any comments received, and to accommodate the request of Lensi and AIPC to meet with officials from the Department, we are extending the due date of the final results of the AD CCR by 60 days in accordance with 19 CFR 351.302(b). Therefore, the final results of the AD CCR are now due no later than December 5, 2008.

This notice is issued and published in accordance with sections 751(b) and 777(i) of the Tariff Act of 1930, as amended.

Dated: October 6, 2008.
Stephen J. Claeys,
Deputy Assistant Secretary for Import Administration.

[FR Doc. E8-24203 Filed 10-9-08; 8:45 am]

BILLING CODE 3510-DS-S